DEPARTMENT OF ENERGY

Proposed Agency Information Collection

AGENCY: Department of Energy.

ACTION: Notice and request for comments.

SUMMARY: The Department of Energy (DOE) invites public comment on a proposed collection of information that DOE is developing for submission to the Office of Management and Budget (OMB) pursuant to the Paperwork Reduction Act of 1995. The Office of Science reports annually in the President's Budget Request the numbers of researchers, post docs, graduate students and technicians supported through Research Grants and Field Work Proposals (FWPs). However, these data are based on forecasts by the principal investigator (i.e., PIs) at the time the grants and FWPs were initially funded. These estimates are unreliable because they are based on the best guess of the PIs at the time of funding. While the PI's initial estimate could be accurate at the time of the request, the reliability of the initial estimate decreases as the project matures. Further, the forecasts by the PIs are subjective. Therefore, it is not possible to quantify the inaccuracies with any confidence. To better plan for future investments, the Office of Science must better understand the actual impact of its budget on the technical manpower supported. A short (approximately 17 minutes) web-based survey has been developed to collect actual workforce data from a small sample of researchers currently supported by the Office of Science. The result will be compared to proposal data to estimate the average and range of variation and to derive a statistically valid methodology for approximating budgetary impacts on the technical manpower supported. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

DATES: Comments regarding this proposed information collection must be received on or before August 30, 2005. If you anticipate difficulty in submitting comments within that period, contact the person listed below as soon as possible.

ADDRESSES: Written comments may be sent to:

Christine Chalk, Office of Science, SC-1.22, U.S. Department of Energy, 1000 Independence Ave. SW., Washington, DC 20585.

or by fax at 202-586-7203, or by e-mail at christine.chalk@science.doe.gov

and to:

Sharon A. Evelin, Director, IM-11, U.S. Department of Energy, 19901 Germantown Road, Germantown, Maryland 20874

or by fax, 301-903-9061 or by e-mail at sharon.evelin@hq.doe.gov.

FOR FURTHER INFORMATION CONTACT: Requests for additional information or copies of the information collection instrument and instructions should be directed to Christine Chalk at the address listed above in ADDRESSES.

SUPPLEMENTARY INFORMATION: This package contains: (1) OMB No. {enter “New”}; (2) Package Title: DOE 2005 Technical Manpower Online Survey; (3) Type of Review: {New}; (4) Purpose: To improve planning efforts by improving the quality of data regarding the numbers and types of personnel supported through research grants; (5) Respondents: 366; (6) Estimated Number of Burden Hours: approximately 17 minutes per respondent times 366 respondents is 103.7 hours. Statutory Authority: Department of Energy Organization Act (Pub. L. 95-91, as amended) Sec. 209 defines the duty and the responsibilities of the Director of Office of Science to include: Advising the Secretary with respect to education and training activities required for effective short- and long-term basic and applied research activities of the Department; and Advising the Secretary with respect to grants and other forms of financial assistance required for effective short- and long-term basic and applied research activities of the Department.

Issued in Washington, DC, on June 23, 2005.
Sharon A. Evelin,
Director, Records Management Division, Office of the Chief Information Officer.

[FR Doc. 05-13008 Filed 6-30-05; 8:45 am]

BILLING CODE 6450-01-P